DEPARTMENT OF LABOR

Employment and Training Administration

[TA-W-55, 072]

Jaymar-Ruby, Inc. D/B/A Trans-Apparel Group A Subsidiary of Hartmarx Corporation Michigan City, IN; Dismissal of Application for Reconsideration

Pursuant to 29 CFR 90.18(C) an application for administrative reconsideration was filed with the Director of the Division of Trade Adjustment Assistance for workers at Jaymar-Ruby, Inc., d/b/a Trans-Apparel Group, a subsidiary of Hartmarx Corporation, Michigan City, Indiana. The application contained no new substantial information which would bear importantly on the Department's determination. Therefore, dismissal of the application was issued.

TA-W-55, 072; Jaymar-Ruby, Inc., d/b/a Trans-Apparel Group, a subsidiary of Hartmarx Corporation, Michigan City, Indiana (August 31, 2004).

Signed in Washington, DC this 8th day of September, 2004.
Linda G. Poole,
Certifying Officer, Division of Trade Adjustment Assistance.

[FR Doc. 04-20870 Filed 9-15-04; 8:45 am]

BILLING CODE 4510-30-M